DEPARTMENT OF TRANSPORTATION

National Highway Traffic Safety Administration

49 CFR Part 571

[Docket No. NHTSA-2006-26299]

Federal Motor Vehicle Safety Standards; Brake Hoses

AGENCY: National Highway Traffic Safety Administration (NHTSA), Department of Transportation.

ACTION: Notice of proposed rulemaking; proposed delay of effective date.

SUMMARY: NHTSA published a final rule in December 2004 that amended the Federal motor vehicle safety standard on brake hoses. In early 2005, the agency received several petitions for reconsideration of the rule and a petition to delay the effective date of the final rule. At present, the rule is to take effect on December 20, 2006. To allow for more time to respond to petitions for reconsideration, and to give industry more time to meet new requirements, this document proposes to delay the effective date of the final rule for one year, to December 20, 2007.

DATES: You should submit your comments not later than November 30, 2006.

ADDRESSES: We invite you to submit comments on the proposed delay of the effective date of the final rule published on December 20, 2004. You may submit comments identified by docket number at the heading of this notice by any of the following methods:

• Web Site: http://dms.dot.gov. Follow the instructions for submitting comments on the DOT electronic docket site by clicking on “Help and Information” or “Help/Info.”

• Fax: 1-(202)-493-2251.

• Mail: Docket Management Facility, U.S. Department of Transportation, 400 Seventh Street, SW., Nassif Building, Room PL-401, Washington, DC 20590.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the agency name and docket number. Note that all comments received will be posted without change to http://dms.dot.gov, including any personal information provided.

Docket: For access to the docket in order to read background documents or comments received, go to http://dms.dot.gov at any time or to Room PL-401 on the plaza level of the Nassif Building, 400 Seventh Street, SW., Washington, DC, between 9 a.m. and 5 p.m., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

We shall consider all comments received before the close of business on the comment closing date indicated above. To the extent possible, we shall also consider comments filed after the closing date.

FOR FURTHER INFORMATION CONTACT: For technical issues you may call: Mr. Jeff Woods, Vehicle Dynamics Division, Office of Crash Avoidance Standards, at (202) 366-6206. Mr. Woods' fax number is: (202) 366-4921.

For legal issues, you may call Ms. Dorothy Nakama, Office of the Chief Counsel, at (202) 366-2992. Her fax number is: (202) 366-3820.

You may send mail to both of these officials at the National Highway Traffic Safety Administration, 400 Seventh Street, SW., Washington, DC 20590.

SUPPLEMENTARY INFORMATION:

Background

Federal Motor Vehicle Safety Standard No. 106, Brake hoses (49 CFR 571.106) (FMVSS No. 106), specifies labeling and performance requirements for motor vehicle brake hose, brake hose assemblies, and brake hose end fittings. The purpose of FMVSS No. 106 is to reduce deaths and injuries occurring as a result of brake system failure from pressure or vacuum loss due to hose or hose assembly rupture.

2004 Final Rule

On December 20, 2004 (69 FR 76298) (DMS Docket No. NHTSA-2003-14483), NHTSA published a final rule amending FMVSS No. 106 to update the standard and incorporate the most recent substantive technical requirements of several Society of Automotive Engineers (SAE) Recommended Practices relating to hydraulic brake hoses, vacuum brake hoses, air brake hoses, plastic air brake tubing, and end fittings. The final rule specified an effective date of December 20, 2006 for these amendments. Optional early compliance with the final rule was permitted as of February 18, 2005.

Petitions for Reconsideration

In early 2005, NHTSA received petitions for reconsideration of the December 20, 2004 final rule from Cooper Standard Automotive (Fluid Division), Degussa Corporation, George Apgar Consulting, MPC, Inc., and Parker Hannifin Corporation (with separate comments from its Brass Division and from its Hose Products Division).¹ The petitions addressed a wide range of FMVSS No. 106 subjects.

¹ In July 2005, Arkema, Inc., submitted a document styled as a petition for reconsideration. NHTSA is treating the document as a petition for rulemaking instead since its regulations (49 CFR 553.35(a)) provide that a document styled as a petition for reconsideration of a final rule and received by the agency more than 45 days after the issuance of that final rule will be treated as a petition for rulemaking.

Petition for Extension of the Effective Date

In a submission dated September 12, 2006, Legris petitioned NHTSA for an extension of the December 20, 2004 final rule for an additional year, to December 20, 2007. Legris stated that it learned of the changes to FMVSS No. 106 “within the past few months” and stated that it cannot make all necessary changes to its brake hose products before the December 20, 2006 effective date. Legris asserted that without the extension, its business and customer base will be jeopardized and it will “be faced with a considerable loss of both sales revenue and profits, as well as losses from products already manufactured but which could not be installed in vehicles until after December 20, 2006.”

Proposed Extension of Effective Date

The petitions for reconsideration asked NHTSA to amend many of the December 20, 2004 final rule's provisions on brake hoses, brake hose assemblies, and end fittings. Our response to those petitions could affect current designs of certain types of brake hoses. The numerous issues raised in the petitions are complex. In some cases, the petitioners ask for changes that differ from those requested by other petitioners. The agency is in the process of developing its response to the petitions. A 12-month extension of the effective date, to December 20, 2007, would preserve the status quo until then. It would also give Legris and similarly situated companies additional time to meet updated FMVSS No. 106 requirements.

Because the December 20, 2006 effective date for the final rule is fast approaching, NHTSA proposes delaying the effective date for one year, to December 20, 2007. If made final, this NPRM would make no substantive change to the standard, but would delay the effective date of the December 20, 2006 final rule for another year while the agency responds to the petitions for reconsideration of the rule. Thus, NHTSA seeks public comment on extending the effective date of the final rule until December 20, 2007. Because the agency seeks to provide as much lead time as possible about its final determination whether the effective date will be extended, we have provided a 15-day comment period on the issue of the extension of the December 20, 2004 final rule's effective date. If the agency does not receive any opposing comments, it will issue a final rule adopting the extension shortly after the comment closing date.

Rulemaking Analyses and Notices

A. Executive Order 12866, Regulatory Planning and Review, and DOT Regulatory Policies and Procedures

We have considered the impact of this rulemaking action under Executive Order 12866 and the Department of Transportation's regulatory policies and procedures. This rulemaking document was not reviewed under E.O. 12866, “Regulatory Planning and Review.” Further, we have determined that this action is not “significant” within the meaning of the Department of Transportation's regulatory policies and procedures (44 FR 11034; February 26, 1979).

This NPRM proposes to delay the effective date of a December 20, 2004 final rule amending FMVSS No. 106. If made final, there would be no additional costs associated with the delay of the effective date. Since the safety benefits from the December 20, 2004 final rule cannot be quantified, and are likely minor, the impact of this extension is also likely minor.

B. Regulatory Flexibility Act

NHTSA has considered the impacts of this rulemaking action under the Regulatory Flexibility Act (5 U.S.C. 601 et seq.). I certify that the proposed rule would not have a significant economic impact on a substantial number of small entities. If made final, this rule would not impose any new requirements or costs on manufacturers, but instead would only preserve the status quo for an additional year.

C. Paperwork Reduction Act

Under the Paperwork Reduction Act of 1995 (44 U.S.C. 3501 et seq.) (PRA), a person is not required to respond to a collection of information by a Federal agency unless the collection displays a valid OMB control number. Since it would only delay the effective date of a final rule, if made final, this NPRM would not impose any new collection of information requirements for which a 5 CFR part 1320 clearance must be obtained.

D. National Environmental Policy Act

We have analyzed this proposed rule for the purposes of the National Environmental Policy Act. We have determined that implementation of this action would not have any significant impact on the quality of the human environment.

E. Executive Order 13132, Federalism

This proposed rule would not have substantial direct effects on the States, on the relationship between the national government and the States, or on the distribution of power and responsibilities among the various levels of government, as specified in Executive Order 13132.

F. Civil Justice Reform

This proposed rule would not have any retroactive effect. A petition for reconsideration or other administrative proceedings are not required before parties may file suit in court.

G. Unfunded Mandates Reform Act

If made final, this proposed rule would not result in costs of $100 million or more to either State, local, or tribal governments, in the aggregate, or to the private sector. Thus, this proposed rule is not subject to the requirements of sections 202 and 205 of the Unfunded Mandates Reform Act.

Authority: 49 U.S.C. 322, 30111, 30115, 30117, and 30166; delegations of authority at 49 CFR 1.50 and 501.8.

Issued on: November 7, 2006.
Stephen R. Kratzke,
Associate Administrator for Rulemaking.

[FR Doc. E6-19198 Filed 11-14-06; 8:45 am]

BILLING CODE 4910-59-P